DEPARTMENT OF TRANSPORTATION

Federal Highway Administration

[Docket No. FHWA-2008-0112]

Agency Information Collection Activities: Notice of Request for Renewal of a Previously Approved Information Collection

AGENCY: Office of the Secretary (OST).

ACTION: Notice and request for comments.

SUMMARY: The OST invites public comments about our intention to request the Office of Management and Budget's (OMB) approval for renewal of a previously approved information collection that is summarized below under SUPPLEMENTARY INFORMATION. We published a Federal Register Notice with a 60-day public comment period on this information collection on May 22, 2008. We are required to publish this notice in the Federal Register by the Paperwork Reduction Act of 1995.

DATES: Please submit comments by September 2, 2008.

ADDRESSES: You may submit comments identified by DOT DMS Docket Number FHWA-2008-0112 by any of the following methods: Web Site: http://dms.dot.gov. Follow the instructions for submitting comments on the DOT electronic docket site. Fax: 1-202-493-2251. Mail: Docket Management Facility; U.S. Department of Transportation, 1200 New Jersey Avenue, SE., Washington, DC 20590. Hand Delivery: U.S. Department of Transportation, 1200 New Jersey Avenue, SE., Washington, DC 20590, between 9 a.m. and 5 p.m., Monday through Friday, except Federal holidays. Docket: For access to the docket to read background documents or comments received, go to http://dms.dot.gov at any time or to U.S. Department of Transportation, 1200 New Jersey Avenue, SE., Washington, DC 20590, between 9 a.m. and 5 p.m., Monday through Friday, except Federal holidays.

FOR FURTHER INFORMATION CONTACT: Mr. Jon Obenberger, 202-366-2221, Office of Infrastructure, Federal Highway Administration, Department of Transportation, 1200 New Jersey Avenue, SE., Washington, DC 20590. Office hours are from 8 a.m. to 4:30 p.m., Monday through Friday, except Federal holidays.

SUPPLEMENTARY INFORMATION: Title: Utility Adjustments, Agreements, Eligibility Statements and Accommodation Policies.

OMB Control #: 2125-0519.

Background: Federal laws dealing with the relocation and accommodation of utility facilities associated with the right-of-way of highway facilities are contained in the United States Code (U.S.C.) 23, Sections 123 and 109(I)(1). Regulations dealing with the utility facility accommodation and relocation are based upon the laws contained in 23 U.S.C. and are found in the Code of Federal Regulations (CFR), Title 23, Chapter I, Subchapter G, Part 645, subparts A and B.

The FHWA requires (23 CFR part 645 subpart A—Utility Relocations, Adjustments, and Reimbursement) developing and recording costs for utility adjustments, as the basis for reimbursing State Departments of Transportation (SDOT's) and local agency transportation departments, when they have paid the costs of utility facilities relocations that were required by the construction of Federal-aid highway projects. The FHWA requires the utility companies to document the costs or expenses for adjusting their facilities. These utility companies must have a system for recording labor, materials, supplies and equipment costs incurred when undertaking adjustments to accommodate the highway projects. This record of costs forms the basis for payment by the SDOT or local transportation department to the utility company. In turn the FHWA reimburses the SDOT or local transportation department for its payment to the utility company. The utility company is required to maintain these records of costs for 3 years after final payment is received.

The SDOT and/or local agency transportation departments are responsible for maintaining the highway rights-of-way, including the control of its use by the utility companies. In managing the use of the highway rights-of-way, the SDOT and/or local agency transportation department is required (23 CFR 645.205 and 23 CFR 645.213) to document the terms under which utility facilities are allowed to cross or otherwise occupy the highway rights-of-way, in the form of utility use and occupancy agreements (formerly OMB Control #: 2125-0522) with each utility company. This documentation, consisting of a use and occupancy agreement (permit), must be in writing and must be maintained in the SDOT and/or local agency transportation department.

Each SDOT's is required (23 CFR 615.215) to submit to the FHWA a utility adjustment eligibility statement (formerly OMB Control #: 2125-0515) that establishes the SDOT's legal authority and policies it employs for accommodating utilities within highway right-of-ways or obligation to pay for utility adjustments. FHWA has previously reviewed and approved these eligibility statements for each State DOT. The statements are used as a basis for Federal-aid reimbursement in utility relocation costs under the provisions of 23 U.S.C. 123. Updated statements may be submitted for review at the State's discretion where circumstances have modified (for example, a change in State statute) the extent to which utility adjustments are eligible for reimbursement by the State or those instances where a local SDOT's legal basis for payment of utility adjustments differs from that of the State.

Each SDOT's is also required (23 CFR 645.215) to develop and submit to FHWA their utility accommodation policies (formerly OMB Control #: 2125-0514) that will be used to regulate and manage the utility facilities within the rights-of-way of Federal-aid highway projects. The agencies utility accommodation policies need to address the basis for utility facilities to use and occupy highway right-of-ways; the State's authority to regulate such use; and the policies and/or procedures employed for managing and accommodating utilities within the right-of-ways of Federal-aid highway projects. Upon FHWA's approval of the policy statement, the SDOT may take any action required in accordance with the approved policy statement without a case-by-case review by the FHWA. In addition, the utility accommodation policy statements that have been approved previously by the FHWA are periodically reviewed by the SDOT's to determine if updating is necessary to reflect policy changes.

Respondents: 52 SDOT's, including the District of Columbia and Puerto Rico, local agency transportation departments, and utility companies.

Frequency: Developing and recording costs and expenses for utility adjustments are submitted as they occur during the year (annually) by utility companies to SDOTs or local agency transportation departments. The SDOT's and local agency transportation departments are each involved in an average of 15 utility use and occupancy agreements (or permits) per year for an annual frequency of 69,000. SDOT's are allowed to submit their eligibility statement for utility adjustments and their utility accommodation policies when warranted by changes or updates occur, or at the SDOT's discretion. It is estimated 10 SDOT's will update either their eligibility statement for utility agreements or utility accommodation policies per year.

Estimated Average Annual Burden per Response: The estimated average amount of time required to develop and record the costs for each utility adjustment is 8 hours. The estimated amount of time required by the SDOT's and local agency transportation departments to process each utility use and occupancy agreement (permit) is 8 hours. The estimated amount of time for each update to the SDOT's eligibility statement for utility adjustments has an average burden of 18 hours. The estimated amount of time for each update and submittal of a SDOT's utility accommodation policy has an average burden of 280 hours.

Estimated Total Annual Burden Hours: The annual burden associated with developing and recording the costs for adjusting utility facilities is 72,000 hours based on an estimate of 9,000 adjustments that utility companies perform annually that may be eligible for Federal-aid highway funding allowing SDOT's or local agency transportation departments to request reimbursement from FHWA. The annual burden associated with preparing, submitting and approving utility use and occupancy agreements (permits) is 552,000 burden-hours. The annual burden associated with developing and approving updates to SDOT's eligibility statement for utility adjustments is 90 hours. The annual burden associated with developing and approving updates to SDOT's utility accommodation policies is 1,400 hours. The accumulated burden for the combined information collection is 625,490.

Authority: The Paperwork Reduction Act of 1995; 44 U.S.C. Chapter 35, as amended; and 49 CFR 1.48.

Issued on: July 25, 2008.
Judith Kane,
Team Leader, Management Programs and Analysis Division.

[FR Doc. E8-17672 Filed 7-31-08; 8:45 am]

BILLING CODE 4910-22-P